DEPARTMENT OF JUSTICE

Office of Justice Programs

[OJP (OJP) Docket No. 1713]

Office of Justice Programs Science Advisory Board; Call for Nominations

AGENCY: Office of Justice Programs (OJP), Justice.

ACTION: Notice.

SUMMARY: The Office of Justice Programs (OJP), U.S. Department of Justice, proposes to appoint new members to the OJP Science Advisory Board (“the Board”). The Assistant Attorney General, acting as administrative lead, is requesting nominations for qualified persons to serve as members of the Board.

DATES: Nominations must be post marked by June 30, 2016.

ADDRESSES: Nominations should be sent to Katherine Darke Schmitt, Designated Federal Official (DFO), by regular/express mail: Office of Justice Programs, Office of the Assistant Attorney General, 810 7th Street NW., Washington, DC 20531.

FOR FURTHER INFORMATION CONTACT: Katherine Darke Schmitt, DFO, Office of the Assistant Attorney General, Office of Justice Programs, 810 7th Street Northwest, Washington, DC 20531; Phone: (202) 616-7373 [Note: This is not a toll-free number]; Email: katherine.darke@usdoj.gov.

SUPPLEMENTARY INFORMATION: The Board provides OJP's Assistant Attorney General with valuable advice in the areas of social science and statistics for the purpose of enhancing the overall impact and performance of its programs and activities in the areas of criminal and juvenile justice. The Board may advise on program development and recommend guidance to assist in OJP's adherence to the highest levels of scientific rigor as appropriate. The Board provides an important base of contact with the criminal justice and juvenile justice academic and practitioner communities. More information about the composition and responsibilities of the Board is available at: http://ojp.gov/sab.htm.

Prospective members of the Board need to be experienced practitioners in the field of criminal justice, public safety, or juvenile justice; or researchers or statisticians in those fields. At this time, we are particularly interested in applications from senior practitioners in State public safety agencies.

After consideration of the nominations, the Attorney General will appoint one or more new members to the Board. The Attorney General will select members based on their individual qualifications, as well as the overall need to achieve a balanced representation of viewpoints, subject matter expertise, regional knowledge, and representation of communities of interest. Nominees will be appointed to an initial term of four (4) years beginning in spring, 2017. Following completion of their first term, a Board member may request consideration for reappointment to an additional term. Reappointment is not guaranteed.

Typically, the Board meets twice per year (spring and fall) in Washington, DC Between these meetings, Board subcommittees are expected to work via conference calls and email exchanges. Members of the Board and its subcommittees serve without pay. However, while away from their homes or regular places of business in the performance of services of the Board, members may be reimbursed for travel expenses, including per diem.

Individuals who are federally registered lobbyists are ineligible to serve on all Federal Advisory Committee Act (FACA) and non-FACA boards, committees, or councils in an individual capacity.

Submitting Nominations: Nominations should include a resume providing an adequate description of the nominee's qualifications, including information that would enable the Department of Justice to make an informed decision regarding meeting the membership requirements of the Board and permit the Department of Justice to contact a potential member.

Any interested person or entity may nominate one or more qualified individuals for membership on the Board. Self-nominations are also accepted. Persons or entities submitting nomination packages on the behalf of others must confirm that the individual(s) is/are aware of their nomination.

Katherine Darke Schmitt,
Senior Policy Advisor and SAB DFO, Office of the Assistant Attorney General, Office of Justice Programs.

[FR Doc. 2016-12311 Filed 5-24-16; 8:45 am]

BILLING CODE 4410-18-P